DEPARTMENT OF COMMERCE

National Oceanic and Atmospheric Administration

[I.D. 022003E]

Endangered Species; File No. 1353

AGENCY: National Marine Fisheries Service (NMFS), National Oceanic and Atmospheric Administration (NOAA), Commerce.

ACTION: Issuance of permit.

SUMMARY: Notice is hereby given that Steve W. Ross, Ph.D., North Carolina National Estuarine Research Reserve, MCS 5600 Marvin Moss Lane, Wilmington, North Carolina 28409, has been issued a permit to take shortnose sturgeon, Acipenser brevirosturm, for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Jennifer Jefferies or Gene Nitta, (301)713-2289.

SUPPLEMENTARY INFORMATION: On November 30, 2001, notice was published in the Federal Register (66 FR 59780) that a request for a scientific research permit to take shortnose sturgeon had been submitted by Dr. Steve W. Ross. The requested permit has been issued under the authority of the Endangered Species Act of 1973, as amended (ESA; 16 U.S.C. 1531 et seq.) and the regulations governing the taking, importing, and exporting of endangered and threatened species (50 CFR parts 222-226).

Due to habitat loss and overfishing, the North Carolina population of shortnose sturgeon are in danger of extinction. This research will sample and track the shortnose sturgeon in North Carolina river systems. Thirty fish annually will be collected by gillnetting, trawling, and electroshocking. The fish will then be measured, tagged with a Peterson tag, and released. A subset of these fish will also receive an internal ultrasonic transmitter.

Issuance of this permit, as required by the ESA, was based on a finding that such permit (1) was applied for in good faith, (2) will not operate to the disadvantage of the endangered species which is the subject of this permit, and (3) is consistent with the purposes and policies set forth in section 2 of the ESA.

Dated: March 21, 2003.
Stephen L. Leathery,
Chief, Permits, Conservation and Education Division, Office of Protected Resources, National Marine Fisheries Service.

[FR Doc. 03-7367 Filed 3-26-03; 8:45 am]

BILLING CODE 3510-22-S